DEPARTMENT OF HOMELAND SECURITY

Coast Guard

33 CFR Part 117

[CGD05-06-041]

RIN 1625-AA09

Drawbridge Operation Regulations; Southern Branch of the Elizabeth River, Chesapeake, VA

AGENCY: Coast Guard, DHS.

ACTION: Temporary deviation from the regulations.

SUMMARY: The Coast Guard has approved a temporary deviation from the regulations governing the operation of the Jordan Bridge across the Southern Branch of the Elizabeth River, at mile 2.8, in Chesapeake, Virginia. This deviation allows the drawbridge to be maintained in the limited open-to-navigation position at 90 feet above mean high water each day from 8 a.m. to 8 p.m. on May 13, May 14, May 20, and May 21, 2006. Mariners requiring openings in excess of 90 feet above mean high water are requested to provide at least two hours advance notice to the Jordan Bridge Office at (757) 545-4695. This deviation is necessary to facilitate the completion of repairs to the counterweight system.

DATES: This rule is effective from 8 a.m. on May 13, 2006, through 8 p.m. on May 21, 2006.

ADDRESSES: Materials referred to in this document are available for inspection or copying at Commander (dpb), Fifth Coast Guard District, Federal Building, 1st Floor, 431 Crawford Street, Portsmouth, VA 23704-5004 between 8 a.m. and 4 p.m., Monday through Friday, except Federal holidays. The telephone number is (757) 398-6222. Commander (dpb), Fifth Coast Guard District maintains the public docket for this temporary deviation.

FOR FURTHER INFORMATION CONTACT: Bill Brazier, Bridge Management Specialist, Fifth Coast Guard District, at (757) 398-6422.

SUPPLEMENTARY INFORMATION: The Jordan Bridge, a vertical lift-type drawbridge, has vertical clearances in the full closed-to-navigation position and in the full open-to-navigation position of 15 feet and 145 feet above mean high water, respectively. The bridge owner, the City of Chesapeake, has requested a temporary deviation from the current operating regulation set out in 33 CFR 117.997(b), to effect mechanical repairs of the vertical lift span.

To facilitate the repairs, the drawbridge will be maintained in the limited open-to-navigation position at 90 feet, above mean high water, each day from 8 a.m. to 8 p.m. on May 12, May 13, May 20, and May 21, 2006. Mariners requiring openings in excess of 90 feet, above mean high water, are requested to provide at least two hours advance notice to the Jordan Bridge Office at (757) 545-4695. At all other times, the drawbridge will operate in accordance with the current operating regulations outlined in 33 CFR 117.997(b).

The Coast Guard has informed the known users of the waterway so that they can arrange their transits to minimize any impact caused by the temporary deviation.

In accordance with 33 CFR 117.35(c), this work will be performed with all due speed in order to return the bridge to normal operation as soon as possible. This deviation from the operating regulations is authorized under 33 CFR 117.35.

Dated: April 13, 2006.
Waverly W. Gregory, Jr.,
Chief, Bridge Administration Branch, Fifth Coast Guard District.

[FR Doc. 06-3887 Filed 4-24-06; 8:45 am]

BILLING CODE 4910-15-P